DEPARTMENT OF ENERGY

Federal Energy Regulatory Commission

[Project No. 1971-079]

Idaho Power Company; Notice of Revised Procedural Schedule for the Supplemental Environmental Impact Statement for the Hells Canyon Project

On July 29, 2003, Idaho Power Company (Idaho Power) filed an application for a new license to continue to operate and maintain the Hells Canyon Project No. 1971.¹ On August 31, 2007, the Commission issued a final Environmental Impact Statement (EIS) for the Hells Canyon Project. On December 30, 2019, Idaho Power filed an Offer of Settlement (settlement) with the Commission for the Hells Canyon Project.² The settlement, which was executed on April 22, 2019, includes, among other items, spring Chinook salmon and summer steelhead fish passage measures. In addition, the Oregon and Idaho Departments of Environmental Quality each issued a water quality certification under section 401 of the Clean Water Act for the Hells Canyon Project on May 24, 2019.

¹ The current license expired on July 31, 2005, and the project is operating under an annual license.

² On January 7, 2020, the Commission issued notice of the offer of settlement's filing.

On July 8, 2020, Idaho Power supplemented the final license application for the project with additional information on its proposal, including an analysis of the new and revised fish-related protection, mitigation, and enhancement measures proposed under the settlement, and updated information on project resources. Additionally, Idaho Power filed on October 14, 2020, draft biological assessments for species managed by the U.S. Fish and Wildlife Service and the National Marine Fisheries Service, which included an analysis of the effects of the new and revised measures on fish and wildlife listed under the Endangered Species Act.

On June 13, 2022, Commission staff issued a notice of intent to prepare a draft and final EIS to assess the new and revised fish-related protection, mitigation, and enhancement measures proposed under the settlement, the Oregon and Idaho water quality certifications, and the draft biological assessments. The notice of intent included a schedule for preparing a draft and final supplemental EIS.

By notice issued October 12, 2023, Commission staff revised the procedural schedule for issuing the draft and final supplemental EIS. The revised date for issuing the draft supplemental EIS was to be February 2024. By this notice, Commission staff is updating the procedural schedule for completing the draft and final supplemental EIS. Further revisions to the schedule may be made as appropriate.

Milestone | Target date
Issue Draft EIS | July 2024.
Comments on Draft EIS due | September 2024.
Commission issues Final EIS | February 2024.

Any questions regarding this notice may be directed to Aaron Liberty at (202) 502-6862 or aaron.liberty@ferc.gov.

Dated: May 17, 2024.
Debbie-Anne A. Reese,
Acting Secretary.

[FR Doc. 2024-11375 Filed 5-22-24; 8:45 am]

BILLING CODE 6717-01-P